DEPARTMENT OF EDUCATION

[Docket No.: ED-2016-ICCD-0126]

Agency Information Collection Activities; Comment Request; Principal Follow-Up Survey (PFS 2016-17) to the National Teacher and Principal Survey (NTPS 2015-16)

AGENCY: National Center for Education Statistics (NCES), Department of Education (ED).

ACTION: Notice.

SUMMARY: In accordance with the Paperwork Reduction Act of 1995, ED is proposing a new information collection.

DATES: Interested persons are invited to submit comments on or before January 17, 2017.

ADDRESSES: To access and review all the documents related to the information collection listed in this notice, please use http://www.regulations.gov by searching the Docket ID number ED-2016-ICCD-0126. Comments submitted in response to this notice should be submitted electronically through the Federal eRulemaking Portal at http://www.regulations.gov by selecting the Docket ID number or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 2E-347, Washington, DC 20202-4537.

FOR FURTHER INFORMATION CONTACT: For specific questions related to collection activities, please contact NCES Information Collections at NCES.Information.Collections@ed.gov.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Principal Follow-Up Survey (PFS 2016-17) to the National Teacher and Principal Survey (NTPS 2015-16).

OMB Control Number: 1850-NEW.

Type of Review: A new information collection.

Respondents/Affected Public: Individuals or Households.

Total Estimated Number of Annual Responses: 7,240.

Total Estimated Number of Annual Burden Hours: 603.

Abstract: This request is to conduct data collection for the 2016-17 Principal Follow-up Survey (PFS), a one-year follow up of principals who responded to the 2015-16 National Teacher and Principal Survey (NTPS). PFS is conducted by the National Center for Education Statistics (NCES), of the Institute of Education Sciences (IES), within the U.S. Department of Education (ED). The PFS has been conducted two times previously: beginning in 2008-09 as a follow up to the Schools and Staffing Survey (SASS) in 2007-08 (OMB #1850-0598 v.5) and, subsequently, as a follow-up to SASS in 2012-2013 (OMB #1850-0598 v.9). During the 2015-16 school year, NCES conducted the first NTPS (OMB #1850-0598 v.11), a redesign of SASS to improve the flexibility, efficiency, and timeliness of NCES data on the nation's K-12 schools, principals, and teachers. The 2016-17 PFS will be the first to launch from the redesigned NTPS. The PFS survey design and content remain highly consistent with earlier administrations. The 2016-17 PFS, like earlier PFS collections, will measure the one-year attrition rates of principals who leave the profession and will permit comparisons of stayers, movers, and leavers. “Stayers” are principals who remain in the same school between the NTPS year of data collection and the follow-up year; “movers” are principals who stay in the profession but change schools between the NTPS year and the follow-up year; and “leavers” are NTPS respondents who leave the principal profession between the NTPS year and the follow-up year. The data collected in the 2016-17 PFS will be combined with data collected in the 2015-16 NTPS on principal characteristics, qualifications, and perceptions of the school environment. Together, NTPS and PFS provide national data on turnover in the principal workforce, including rates of entry and attrition from principalship, sources and characteristics of newly hired principals, and characteristics and destinations of leavers. The cross-sectional repeated design of PFS allows for analyses of trends related to these topics.

Dated: November 9, 2016.
Kate Mullan,
Acting Director, Information Collection Clearance Division, Office of the Chief Privacy Officer, Office of Management.

[FR Doc. 2016-27393 Filed 11-14-16; 8:45 am]

BILLING CODE 4000-01-P